DEPARTMENT OF HOMELAND SECURITY

Coast Guard

33 CFR Part 165

[Docket No. USCG-2019-0408]

Safety Zones; Annual Events in the Captain of the Port Buffalo Zone

AGENCY: Coast Guard, DHS.

ACTION: Notice of enforcement of regulation.

SUMMARY: The Coast Guard will enforce certain safety zones located in federal regulations for Annual Events in the Captain of the Port Buffalo. This action is necessary and intended to protect the safety of life and property on navigable waters prior to, during, and immediately after these events. During each enforcement period, no person or vessel may enter the respective safety zone without the permission of the Captain of the Port Buffalo.

DATES: The regulations in 33 CFR 165.939(a)(4) as listed in Table 165.939 will be enforced from 9:30 p.m. through 10:15 p.m. on June 14, 2019. The regulations in 33 CFR 165.939(a)(5) as listed in Table 165.939 will be enforced from 9 p.m. through 10 p.m. on June 1, 2019. The regulations in 33 CFR 165.939(a)(6) as listed in Table 165.939 will be enforced from 8 a.m. through 5:30 p.m. on June 15, 2019.

FOR FURTHER INFORMATION CONTACT: If you have questions about this notice of enforcement, call or email LT Sean Dolan, Chief of Waterways Management, U.S. Coast Guard Sector Buffalo telephone 716-843-9322, email D09-SMB-SECBuffalo-WWM@uscg.mil.

SUPPLEMENTARY INFORMATION: The Coast Guard will enforce the Safety Zones; Annual Events in the Captain of the Port Buffalo Zone listed in 33 CFR 165.939 for the following events:

(1) Seneca River Days, Baldwinsville, NY; The safety zone listed in Table 165.939 as (a)(4) will be enforced from 9:30 p.m. through 10:15 p.m. on June 14, 2019 with a rain date of June 15, 2019.

(2) Flagship Niagara Mariner's Ball Fireworks, Erie, PA; The safety zone listed in Table 165.939 as (a)(5) will be enforced from 9 p.m. through 10 p.m. on June 01, 2019.

(3) Hope Chest Buffalo Niagara Dragon Boat Festival, Buffalo, NY; The safety zone listed in Table 165.939 as (a)(6) will be enforced from 8:00 a.m. through 5:30 p.m. on June 15, 2019.

Pursuant to 33 CFR 165.23, entry into, transiting, or anchoring within the safety zones during an enforcement period is prohibited unless authorized by the Captain of the Port Buffalo or a designated representative. Those seeking permission to enter the safety zones may request permission from the Captain of Port Buffalo via channel 16, VHF-FM. Vessels and persons granted permission to enter the safety zones shall obey the directions of the Captain of the Port Buffalo or a designated representative. While within a safety zone, all vessels shall operate at the minimum speed necessary to maintain a safe course.

This notice of enforcement is issued under authority of 33 CFR 165.939 and 5 U.S.C. 552 (a). In addition to this notice of enforcement in the Federal Register, the Coast Guard will provide the maritime community with advance notification of this enforcement period via Broadcast Notice to Mariners or Local Notice to Mariners. If the Captain of the Port Buffalo determines that the safety zone need not be enforced for the full duration stated in this notification he or she may use a Broadcast Notice to Mariners to grant general permission to enter the respective safety zone.

Dated: May 23, 2019.
Joseph S. Dufresne,
Captain, U.S. Coast Guard, Captain of the Port Buffalo.

[FR Doc. 2019-11374 Filed 5-30-19; 8:45 am]

BILLING CODE 9110-04-P